DEPARTMENT OF TRANSPORTATION

Federal Aviation Administration

14 CFR Part 71

[Docket No. FAA 2006-24233; Airspace Docket No. 06-ANM-1]

Revision of Class E Airspace; Saratoga, WY

AGENCY: Federal Aviation Administration (FAA), DOT.

ACTION: Final rule.

SUMMARY: This action will revise the Class E airspace at Saratoga, WY. Additional Class E airspace is necessary to accommodate aircraft using a new Area Navigation (RNAV) Global Positioning System (GPS) Standard Instrument Approach Procedure (SIAP) at Saratoga/Shively Field. This will improve the safety of Instrument Flight Rules (IFR) aircraft executing the new RNAV GPS SIAP at Saratoga/Shively Field, Saratoga, WY.

EFFECTIVE DATE: 0901 UTC, May 10, 2007. The Director of the Federal Register approves this incorporation by reference action under 1 CFR part 51, subject to the annual revision of FAA Order 7400.9 and publication of conforming amendments.

FOR FURTHER INFORMATION CONTACT: Ed Haeseker, Federal Aviation Administration, Western Service Area, System Support, 1601 Lind Avenue, SW., Renton, WA 98055-4056; telephone (425) 227-2527.

SUPPLEMENTARY INFORMATION:

History

On August 11, 2006, the FAA published in the Federal Register a notice of proposed rulemaking to revise Class E airspace at Saratoga, WY (71 FR 46131). This action would improve the safety of Instrument Flight Rules (IFR) aircraft executing this new RNAV GPS approach procedure at Saratoga/Shively Field, Saratoga, WY. Interested parties were invited to participate in this rulemaking effort by submitting written comments on the proposal to the FAA. No comments were received.

Class E airspace designations are published in paragraph 6005 of FAA Order 7400.9P dated September 1, 2006, and effective September 15, 2006, which is incorporated by reference in 14 CFR part 71.1. The Class E airspace designations listed in this document will be published subsequently in that Order.

The Rule

This action amends Title 14 Code of Federal Regulations (14 CFR) part 71 by revising Class E airspace at Saratoga, WY. Additional controlled airspace is necessary to accommodate IFR aircraft executing a new RNAV (GPS) approach procedure at Saratoga/Shively Field, Saratoga, WY.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9P, Airspace Designations and Reporting Points, dated September 1, 2006, and effective September 15, 2006, is amended as follows:

Paragraph 6005 Class E Airspace Areas Extending Upward From 700 Feet or More Above the Surface of the Earth.

* * * * *

ANM WY E5 Saratoga, WY [Revised]

Saratoga/Shively Field, WY

(Lat. 41°26′41″ N., long. 106°49′25″ W.)

Saratoga NDB

(Lat. 41°26′42″ N., long. 106°49′56″ W.)

Cherokee VOR/DME

(Lat. 41°45′21″ N., long. 107°34′55″ W.)

That airspace extending upward from 700 feet above the surface within 6.9-mile radius of the Saratoga/Shively Field Airport and within 3.1 miles each side of the 342° bearing from the Saratoga NDB extending from the 6.9-mile radius to 10 miles northwest of the NDB; that airspace extending upward from 1200 feet above the surface bounded by a line beginning at lat. 41°54′45″ N., long. 106°47′15″ W.; to lat. 41°17′00″ N., long. 106°32′30″ W.; to lat. 41°00′00″ N., long. 107°44′00″ W.; to the Cherokee VOR/DME; to the point of beginning.

* * * * *

Issued in Seattle, Washington, on December 12, 2006.
Clark Desing,
Manager, System Support, Western Service Area.

[FR Doc. E7-1898 Filed 2-6-07; 8:45 am]

BILLING CODE 4910-13-P